BUREAU OF CONSUMER FINANCIAL PROTECTION

Academic Research Council Meeting

AGENCY: Bureau of Consumer Financial Protection.

ACTION: Notice of public meeting.

SUMMARY: This notice sets forth the announcement of a public meeting of the Academic Research Council (ARC or Council) of the Consumer Financial Protection Bureau (Bureau). The notice also describes the functions of the Council. Notice of the meeting is permitted by section 8 of the ARC Charter. Specifically, section 8(d) of the ARC Charter states:

The Council will convene in person from time to time at the call of the Assistant Director or the Assistant Director's designee, but at a minimum shall meet annually. Council members may also make additional visits to the Bureau or participate in additional meetings for educational or other research-related purposes.

DATES: The meeting date is Friday, May 20, 2016, 9 a.m. to 11 a.m. eastern time.

ADDRESSES: The meeting location is Consumer Financial Protection Bureau, 1275 First Street NE., Washington, DC 20002.

FOR FURTHER INFORMATION CONTACT: Jassmine Okiemen, Research Assistant, Academic Research Council, Office of Research, Consumer Financial Protection Bureau, at CFPB_AcademicResearchCouncil@cfpb.gov, or 202-435-9607.

SUPPLEMENTARY INFORMATION:

I. Background

Section 1013(b)(1) of the Consumer Financial Protection Act, 12 U.S.C. 5493(b)(1) establishes the Office of Research (OR) and assigns to it the responsibility of researching, analyzing, and reporting on topics relating to the Bureau's mission, including developments in markets for consumer financial products and services, consumer awareness, and consumer behavior.

The Academic Research Council is a consultative body comprised of scholars that help the Office of Research perform these responsibilities. Section 3 of the ARC Charter states: “The Council will provide the Office of Research advice and feedback on research methodologies, framing research questions, data collection, and analytic strategies. Additionally, the Council will provide both backward- and forward-looking feedback on the Office of Research's research work and will offer input into its research strategic planning process and research agenda.”

II. Agenda

The Academic Research Council will discuss methodology and direction for consumer finance research at the Bureau.

Persons who need a reasonable accommodation to participate should contact CFPB_504Request@cfpb.gov, 202-435-9EEO, 1-855-233-0362, or 202-435-9742 (TTY) prior to the meeting or event to request assistance. The request must identify the date, time, location, and title of the meeting or event, the nature of the assistance requested, and contact information for the requester. CFPB will strive to provide but cannot guarantee that accommodation will be provided for late requests.

Individuals who wish to attend the Academic Research Council meeting must RSVP to CFPB_AcademicResearchCouncil@cfpb.gov by noon, May 18, 2016. Members of the public must RSVP by the due date and must include “ARC” in the subject line of the RSVP.

III. Availability

The Council's agenda will be made available to the public on May 10, 2016, via www.consumerfinance.gov. Individuals should express in their RSVP if they require a paper copy of the agenda.

Dated: May 4, 2016.
Christopher D'Angelo,
Chief of Staff, Bureau of Consumer Financial Protection.

[FR Doc. 2016-11614 Filed 5-16-16; 8:45 am]

BILLING CODE 4810-AM-P